DEPARTMENT OF TRANSPORTATION

Federal Aviation Administration

Fourth Meeting, Special Committee 213 Enhanced Flight Vision Systems/Synthetic Vision System (EFVS/SVS)

AGENCY: Federal Aviation Administration (FAA), DOT.

ACTION: Notice of RTCA Special Committee 213, Enhanced Flight Vision Systems/Synthetic Vision System, (EFVS/SVS).

SUMMARY: The FAA is issuing this notice to advise the public of a meeting of RTCA Special Committee 213, Enhanced Flight Vision Systems/Synthetic Vision System, (EFVS/SVS).

DATES: The meeting will be held November 27-29, 2007 from 9 a.m.-5 p.m.

ADDRESSES: The meeting will be held at Hilton Savannah DeSoto Hotel, 15 East Liberty Street, Savannah, Georgia 31401.

FOR FURTHER INFORMATION CONTACT: RTCA Secretariat, 1828 L Street, NW., Suite 805, Washington, DC, 20036; telephone (202) 833-9339; fax (202) 833-9434; Web site http://www.rtca.org for directors. Hilton Gardens: telephone (425) 430-1414.

SUPPLEMENTARY INFORMATION: Pursuant to section 10(a)(2) of the Federal Advisory Committee Act (Pub. L. 92-463, 5 U.S.C., Appendix 2), notice is hereby given for a Special Committee 213 meeting. The agenda will include:

• November 27th.

• Opening Plenary Session (Welcome, Introductions, and Agenda Review).

• Review SC-213 Objectives, Action Items, and SC-213 website content.

• Review initial reports from WG 1, and WG 2.

• Presentations.

• WG 1 and WG 2 meetings:

• Review/edit most recent MASPS.

• Consensus of draft MASPS among WG 1.

• Incorporate helicopter issues.

• WG 2A:

• Review/edit draft MASPS.

• WG 2B:

• Continue to formulate plan performance criteria.

• November 28th.

• Continuation of WG 1 and WG 2 meetings.

• November 29th.

• Review of action items.

• Define next steps for continued MASPS development.

• Closing Plenary Session (Other Business, Establish date and time for next meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 29, 2007.
Francisco Estrada C.,
RTCA Advisory Committee.

[FR Doc. 07-5543 Filed 11-6-07; 8:45 am]

BILLING CODE 4910-13-M